DEPARTMENT OF THE INTERIOR

Bureau of Land Management

[WO-350-1430-PF-24 1A]

Extension of Approved Information Collection, OMB Control Number 1004-0012

AGENCY: Bureau of Land Management, Interior.

ACTION: Notice of request for comments.

SUMMARY: In accordance with the Paperwork Reduction Act of 1995, the Bureau of Land Management (BLM) requests the Office of Management and Budget (OMB) to extend an existing approval to collect information from States and local government agencies and from qualified nonprofit corporations and associations who submit an Application for Land for Recreation or Public Purposes (Form No. 2740-1) to obtain public lands and benefits for recreational and public purposes. The BLM uses the information to determine if an applicant meets the requirements of the Recreation and Public Purpose Act of June 14, 1926.

DATES: You must submit your comments to BLM at the address below on or before June 7, 2005. BLM will not necessarily consider any comments received after the above date.

ADDRESSES: You may mail comments to: Regulatory Affairs Group (WO-630), Eastern States Office, 7450 Boston Blvd., Springfield, Virginia 22153.

You may send comments via Internet to: WOComment@blm.gov. Please include: “ATTN: 1004-0012” and your name and address with your comments.

You may deliver comments to the Bureau of Land Management, Administrative Record, Room 401, 1620 L Street, NW., Washington, DC.

Comments will be available for public review at the L Street address during regular business hours (7:45 a.m. to 4:15 p.m.) Monday through Friday.

FURTHER INFORMATION CONTACT: You may contact Alzata L. Ransom, Lands and Realty Group, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Recreation and Public Purpose Act (R&PP) of June 14, 1926, as amended (43 U.S.C. 869 et seq.), authorizes the Secretary of the Interior to lease or convey certain public lands to States and local government agencies, and to qualified nonprofit corporations and associations for recreational and public purposes under specified conditions. The term “public purpose” means providing facilities or services for the benefit of the public in connection with, but not limited to, public health, safety, or welfare. We permit use of lands or facilities for habitation, cultivation, trade, or manufacturing only when necessary for an integral to the essential part of public purpose. 43 CFR part 2740 regulations provide guidelines to lease or convey public lands under the Act.

The Act applies to all public lands, except lands within national forests, national parks and monuments, national wildlife refuges, Indian lands, and acquired lands. We lease revested Oregon and California Railroad grant lands, and reconveyed Coos Bay Wagon Road grant lands in western Oregon only to State and Federal instrumentalities, political subdivisions, and to municipal corporations.

Lease periods may be for any length of time, but must not exceed 20 years for nonprofit entities and 25 years for Federal, States and local governmental entities. We issue leases subject to appropriate environmental and legal stipulations and leases must contain provisions for compliance with:

(1) Nondiscrimination based on race, color, sex, age, religion, or national origin;

(2) An approved plan of management and development upon which BLM based the lease decision (we may cancel a lease for nonuse or a use (without prior BLM consent) other than for which BLM issued the lease);

(3) The Federal Government may reserve the standing timber, use of water, or place other limitations on the use of natural resource; and

(4) Other reasonable stipulations we may require as part of the consideration for the moderate charge for land.

BLM issues patents under the Act that convey a restricted title containing provisions which, if not complied with, may result in reversion of the title to the United States. These provisions are:

(1) Nondiscrimination clauses providing that the patentee may not restrict or permit restriction on the use of the lands conveyed or facilities because of race, color, sex, age, religion, or national origin;

(2) A provision that, if the patentee or its successor in interest attempts to transfer title or control over the land to another or the land is devoted to a use (without prior BLM consent) other than for what it was conveyed, title will revert to the United States;

(3) The patent must stipulate the lands in perpetuity are used for the purposes for which the lands are acquired (the lease or patent may stipulate that certain provisions of the development plan, including the management plan, may be subject to review by the Secretary of the Interior or his delegate); and

(4) All minerals are reserved to the United States. After receiving the form, the BLM will:

(1) Determine if the applicant's proposal conforms with land use planning, review land status to determine if the lands are subject to application, and determine if the application meets all requirements of the law and regulations;

(2) Review the development and management plans to determine adequacy and effectiveness, and evaluate the construction schedule and estimated financing to ensure they are realistic and practicable;

(3) Secure the views of other agencies that have an interest in the lands, including State and local planning and zoning departments;

(4) Check for the presence of unpatented mining claims (R&PP leases and conveyances cannot be issued when mineral claims are present) and, if necessary to determine the validity of a mining claim. The cost of the determination will be the responsibility of the applicant;

(5) Conduct a field examination and other investigations to gather information and data on the environmental considerations and proper classification of the lands;

(6) Publish a notice to solicit views and comments from the public concerning the proposal.

Based on past experience processing these applications, BLM estimates the public reporting burden for completing and providing the information for Form 2740-1 is 40 hours. BLM estimates that we receive approximately 20 applications annually, with a total annual burden of 800 hours.

Any member of the public may request and obtain, without charge, a copy of the BLM Form No. 2730-1 by contacting the person identified under FOR FURTHER INFORMATION CONTACT.

BLM will summarize all responses to this notice and include them in the request for OMB approval. All comments will become a matter of a public record.

Dated: April 5, 2005.
Ian Senio,
Bureau of Land Management, Information Collection Clearance Officer.

[FR Doc. 05-7068 Filed 4-7-05; 8:45 am]

BILLING CODE 4310-83-M